DEPARTMENT OF ENERGY

Federal Energy Regulatory Commission

Notice of Revised Restricted Service List for a Programmatic Agreement for Managing Properties Included in or Eligible for Inclusion in the National Register of Historic Places

Beverly Lock and Dam Water Power | Project No. 13404-002
Devola Lock and Dam Water Power | Project No. 13405-002
Malta/McConnelsville Lock and Dam Water Power | Project No. 13406-002
Lowell Lock and Dam Water Power | Project No. 13407-002
Philo Lock and Dam Water Power | Project No. 13408-002
Rokeby Lock and Dam Water Power | Project No. 13411-002

On September 10, 2015, the Federal Energy Regulatory Commission (Commission) issued notice of a proposed restricted service list for the preparation of a programmatic agreement for managing properties included in, or eligible for inclusion in, the National Register of Historic Places at each of the following proposed projects: (1) Beverly Lock & Dam Water Power Project No. 13404; (2) Devola Lock & Dam Water Power Project No. 13405; (3) Malta Lock & Dam Water Power Project No. 13406; (4) Lowell Lock & Dam Water Power Project No. 13407; (5) Philo Lock & Dam Water Power Project No. 13408; (6) and Rokeby Lock & Dam Water Power Project No. 13411. Rule 2010(d)(1) of the Commission's Rules of Practice and Procedure, 18 CFR 385.2010(d)(1) (2014), provides for the establishment of such a list for a particular phase or issue in a proceeding to eliminate unnecessary expense or improve administrative efficiency. Under Rule 385.2010(d)(4), persons on the official service list are to be given notice of any proposal to establish a restricted service list and an opportunity to show why they should also be included on the restricted service list or why a restricted service list should not be established.

On October 2, 2015, Robin Dushane, Tribal Historic Preservation Officer for the Eastern Shawnee, requested that the Eastern Shawnee Tribe be added to the restricted service list for the above referenced projects.

On October 8, 2015, Jay Toth, Tribal archaeologist for the Seneca Nation, requested that the Seneca Nation be added to the restricted service list and be included as a consulting party in the section 106 of the National Historic Preservation Act consultation process so that it may stay apprised and provide project input.

Under Rule 385.2010(d)(2), any restricted service list will contain the names of each person on the official service list, or the person's representative, who, in the judgment of the decisional authority establishing the list, is an active participant with respect to the phase or issue in the proceeding for which the list is established. The Eastern Shawnee Tribe and the Seneca Nation have identified an interest in issues relating to the management of historic properties at the Beverly Lock and Dam Water Power Project, Devola Lock and Dam Water Power Project, Malta/McConnelsville Lock and Dam Water Power Project, Lowell Lock and Dam Water Power Project, Philo Lock and Dam Water Power Project, and Rokeby Lock and Dam Water Power Project. Therefore, they and their representatives will be added to the restrictive service list.

Accordingly, the restricted service list issued on September 10, 2015, for Projects Nos. 13404, 13405, 13406, 13407, 13408, and 13411 is revised to add the following persons:

Robin Dushane or representative, Historic Preservation Officer, Eastern Shawnee Tribe, 12705 S. 705 Rd., Wyandotte, OK 74370.

Jay Toth, or representative, Tribal Archaeologist, Seneca Nation, 90 Ohiyo Way, Salamanca, NY 14779.

In addition, the zip code for the following address from the restricted service list issued on September 10, 2015 is corrected as follows:

John Eddins or Representative, Advisory Council on Historic Preservation, 401 F Street NW., Suite 803, Washington, DC 20001-2637.

Dated: October 13, 2015.
Kimberly D. Bose,
Secretary.

[FR Doc. 2015-26542 Filed 10-19-15; 8:45 am]

BILLING CODE 6717-01-P